DEPARTMENT OF COMMERCE

Foreign-Trade Zones Board

[Docket 15-2000]

Foreign-Trade Zone 37—Orange County, NY; Request for Processing Authority; Newburgh Dye & Printing, Inc.; Prismatic Dyeing & Finishing, Inc. (Textile Finishing)

An application has been submitted to the Foreign-Trade Zones Board (the Board) by the FTZ of Orange, Ltd., operator of FTZ 37, pursuant to § 400.32(b)(1) of the Board's regulations (15 CFR Part 400), requesting authority on behalf of Newburgh Dye & Printing, Inc. (NDPI), and Prismatic Dyeing & Finishing, Inc. (PDFI), to process foreign-origin textile products under FTZ procedures within FTZ 37. It was formally filed on April 26, 2000.

NDPI and PDFI operate separate textile processing facilities (120,000 sq.ft., 250 employees) within FTZ 37—Site 1 located adjacently at 40-41A Wisner Avenue in Newburgh, New York, within the Stewart/Newburgh State Enterprise Zone and the Newburgh/Kingston Federal Empowerment Zone. In October 1999, the Wisner Avenue site received temporary general-purpose FTZ authority (to 11-1-2003) from the Board to include the two facilities (120,000 sq.ft. authorized) within FTZ 37. The FTZ of Orange is now requesting authority on behalf of NDPI and PDFI to process textile fabrics under FTZ procedures for the U.S. market and export. In this activity, foreign, quota-class woven and knit fabrics (HTSUS 5007.00 through 6022.99) would be admitted to the zone under privileged foreign status (19 CFR 146.41) in greige form to be dyed, printed, and finished using domestic dyes and chemicals. The proposed finishing activity would involve shrinking, sanferizing, desizing, sponging, bleaching, cleaning/laundering, calendaring, hydroxilating, decatizing, fulling, mercerizing, chintzing, moiring, framing/beaming, stiffening, weighting, crushing, tubing, thermofixing, anti-microbial finishing, shower proofing, flame retardation, and embossing of customer-owned fabric. The finished privileged foreign status fabric would then be transferred from the zone for Customs entry under its original textile quota and HTS classifications (no activity would be permitted that would result in transformation, tariff shift, or change in quota class or country of origin), with appropriate duty assessment and quota decrement.

FTZ procedures would exempt NDPI and PDFI from Customs duty payments on the foreign fabric processed for re-export. On shipments for the U.S. market, full duty payment would be deferred until the fabric is transferred from the zone for Customs entry. The application indicates that the savings from FTZ procedures would help improve the facilities' international competitiveness.

The application has requested review under Section 400.32(b)(1) of the FTZ Board regulations based on the election of privileged foreign status for the fabric admitted to FTZ 37.

Public comment on the application is invited from interested parties. Submissions (original and three copies) shall be addressed to the Board's Executive Secretary at the address below. The closing date for their receipt is June 7, 2000.

A copy of the application will be available for public inspection at the following location: Office of the Executive Secretary, Foreign-Trade Zones Board, Room 4008, U.S. Department of Commerce, 14th Street & Pennsylvania Avenue, NW., Washington, DC 20230.

Dated: April 26, 2000.
Dennis Puccinelli,
Acting Executive Secretary.

[FR Doc. 00-11174 Filed 5-3-00; 8:45 am]

BILLING CODE 3510-DS-P